DEPARTMENT OF ENERGY

Office of Energy Efficiency and Renewable Energy

10 CFR Part 431

[Docket No. EE-RM-96-400]

Energy Efficiency Program for Certain Commercial and Industrial Equipment: Petition for Recognition of CSA International To Be a Nationally Recognized Certification Program for Electric Motor Efficiency

AGENCY: Office of Energy Efficiency and Renewable Energy; Department of Energy.

ACTION: Public notice and solicitation of comments.

SUMMARY: CSA International has petitioned the Department of Energy (Department) to classify its motor efficiency verification service program as a nationally recognized certification program in the United States for the purposes of section 345(c) of the Energy Policy and Conservation Act, as amended (EPCA). The Department solicits comments, data and information as to whether to grant CSA International's petition.

DATES: Written comments, data and information, in triplicate, must be received at the Department of Energy by May 26, 2000.

ADDRESSES: Written comments, data and information should be labeled “CSA International Petition to be Classified as a Nationally Recognized Certification Program for Electric Motor Efficiency,” and submitted to: Ms. Brenda Edwards-Jones, Office of Energy Efficiency and Renewable Energy, EE-41, U.S. Department of Energy, 1000 Independence Avenue, SW, Washington, DC 20585-0121. Telephone: (202) 586-2945; Telefax: (202) 586-4617. Also, a copy of such comments should be submitted to Mr. Otto Krepps, Manager, Accreditations, CSA International, 178 Rexdale Boulevard, Toronto, Ontario, Canada M9W 1R3. Telephone: (416) 747-2798; or Telefax (416) 747-4173.

FOR FURTHER INFORMATION CONTACT: James Raba, U.S. Department of Energy, Office of Energy Efficiency and Renewable Energy, Mail Station EE-41, 1000 Independence Avenue, SW, Washington, DC 20585-0121, telephone (202) 586-8654, telefax (202) 586-4617, or: jim.raba@ee.doe.gov

Edward Levy, Esq., U.S. Department of Energy, Office of General Counsel, Mail Station GC-72, 1000 Independence Avenue, SW, Washington, DC 20585-0103, (202) 586-9507, telefax (202) 586-4116, or: edward.levy@hq.doe.gov.

SUPPLEMENTARY INFORMATION: A copy of the CSA International petition for national recognition is appended to this notice. Supporting documents that accompanied the petition may be viewed at the Freedom of Information Reading Room, U.S. Department of Energy, Forrestal Building, Room 1E-190, 1000 Independence Avenue, SW, Washington, DC 20585-0101, telephone (202) 586-3142, between the hours of 9 a.m. and 4 p.m., Monday through Friday, except Federal holidays.

Additional information about CSA International's electric motor efficiency verification service, and petition to be a nationally recognized certification program for electric motor efficiency, can be obtained on the World Wide Web at http://www.csa-international.org/welcome.html, or from Mr. Otto Krepps, Manager, Accreditations, CSA International, 178 Rexdale Boulevard, Toronto, Ontario, Canada M9W 1R3, or telephone (416) 747-2798, or telefax (416) 747-4173, or electronic mail at otto.krepps@csa-international.org.

The Final Rule for Test Procedures, Labeling, and Certification Requirements for Electric Motors, 10 CFR Part 431, was published in the Federal Register (64 FR 54114) on October 5, 1999. It can also be obtained from the Office of Building Research and Standards, Office of Energy Efficiency and Renewable Energy, EE-41, U.S. Department of Energy, 1000 Independence Avenue, SW, Washington, DC 20585-0121, or telephone 202-586-9127, or on the World Wide Web at http://www.eren.doe.gov/buildings/codes_standards/rules/motors/index.htm.

Authority: Part B of Title III of the Energy Policy and Conservation Act contains energy conservation requirements for electric motors, including test procedures, energy efficiency standards, and compliance certification requirements. 42 U.S.C. 6311-6316. Section 345(c) of EPCA directs the Secretary of Energy to require motor manufacturers “to certify through an independent testing or certification program nationally recognized in the United States, that [each electric motor subject to EPCA efficiency standards] meets the applicable standard.” 42 U.S.C. 6316(c). Regulations to implement this EPCA directive are codified in Title 10 of the Code of Federal Regulations Part 431 (10 CFR Part 431) at sections 431.123, Compliance Certification, 431.27, Department of Energy recognition of nationally recognized certification programs, and 431.28, Procedures for recognition and withdrawal of recognition of accreditation bodies and certification programs. Sections 431.27 and 431.28 set forth the criteria and procedures for national recognition of an energy efficiency certification program for electric motors by the Department of Energy.

Background

For a certification program to be classified by the Department of Energy as being nationally recognized in the United States for the purposes of section 345 of EPCA, the organization operating the program must submit a petition to the Department requesting such classification, in accordance with sections 431.27 and 431.28 of 10 CFR Part 431. In sum, for the Department to grant such a petition, the certification program must (1) have satisfactory standards and procedures for conducting and administering a certification system, and operate that system in a highly competent manner, (2) be expert in the test procedures and methodologies in IEEE Standard 112—1996 Test Method B and CSA Standard C390-93 Test Method (1), (3) have satisfactory sampling criteria and procedures for selecting an electric motor for energy efficiency testing, and (4) be independent of electric motor manufacturers, importers, distributors, private labelers or vendors.

Discussion

Pursuant to sections 431.27 and 431.28(a) of 10 CFR Part 431, on November 12, 1999, CSA International submitted to the Department a “Petition for Recognition of CSA International to be a Nationally Recognized Certification Program in the Area of Motor Efficiency” (“petition” or “CSA petition”). The petition consisted of a letter from CSA International to the Department, narrative statements on each of five subjects, and supporting documentation on four of these subjects. Pursuant to section 431.28(b) the Department is hereby publishing as an attachment to this notice the five narrative statements in their entirety. Also, attached is a summary of the supporting documentation.

Pursuant to section 431.28(b) of 10 CFR Part 431, the Department hereby solicits comments, data and information on whether the CSA International's Petition should be granted. Any person submitting written comments to DOE with respect to the CSA International Petition must also, at the same time, send a copy of such comments to CSA International. As provided under section 431.28(c) of 10 CFR Part 431, CSA International may submit to the Department a written response to any such comments. After receiving any such comments and responses, the Department will issue an interim and then a final determination on CSA International's petition, in accordance with sections 431.28(d) and (e) of 10 CFR Part 431.

In particular, the Department solicits comments, data, and information respecting the following:

a. Section 1 of the CSA International Petition, segment entitled “Designated Testing Facility.” The Department is interested in gathering comments on the competence of CSA International's Toronto test facility and the Laboratoire des technologies électrochimiques et des electrotechnologies d'Hydro-Québec for energy efficiency testing of electric motors up to 50 horsepower, and above 50 horsepower through 200 horsepower, respectively.

b. Section 3 of the CSA International Petition, “Certification Division Quality Assurance Manual,” and attachment 1 to Section 4 of the CSA International Petition. The Department is interested in gathering comments on the standards and procedures for the qualification by CSA International of a testing facility, including a manufacturer's testing facility, to test motors for energy efficiency, and the appropriateness of evaluating motor efficiency through testing and/or review of test data on representative samples.

c. Section 4 of the CSA International Petition, “CSA International's Motor Efficiency Verification Program,” segment entitled “Sampling Process.” In particular, the Department is interested in gathering comments on the criteria and procedures for the selection and sampling of electric motors tested for energy efficiency. In sum, under the CSA International process for sampling, a minimum of five basic models are required to be tested to verify the efficiency ratings of a series of motors. The basic models, including high volume production motors, are selected such that they represent the complete range of motors within the series. Thereafter, from one to five units of each basic model are selected at random and tested. Added features of the CSA International sampling process include unannounced follow-up inspections, random motor re-testing, and challenge testing.

Issued in Washington, DC, on April 4, 2000.
Dan W. Reicher,
Assistant Secretary, Energy Efficiency and Renewable Energy.

CSA International Petition

November 12, 1999.

Assistant Secretary for Energy Efficiency and Renewable Energy, United States Department of Energy, 1000 Independence Ave., SW, Washington, DC 20585

Dear [Mr.] Reicher: Please accept this letter and accompanying supporting material as CSA International's petition for recognition of our motor efficiency verification service program to be classified as a nationally recognized certification program in the United States under EPCA in accordance with 10 CFR Part 431.

Enclosed please find three (3) binders, each containing the required information for the Department of Energy (DOE) recognition of nationally recognized certification programs described in Sections 431.27 and 431.28 of 10 CFR Part 431, dated October 5, 1999.

Among the topics this documentation package includes are:

1. A guide describing our motor verification service program;

2. A quality assurance manual covering the essential elements of our standards and procedures for operating a certification system;

3. CSA International By-Laws and assurance of our independence and influence from manufacturers, suppliers and vendors; and

4. Samples of other CSA International accreditations.

CSA International has been using this motor efficiency verification service program since 1992 in support of Canadian Federal and Provincial Regulations. Additional beneficial features our program offers for confirming continued compliance of the motor with the standard by (1) developing a construction report for a motor on its initial submission; (2) follow-up inspections to confirm consistency of construction; (3) re-testing; and (4) challenge testing service.

CSA International is confident that our organization, staff, proven experience in operation a certification program in this area, and our certification system procedures fully meet the evaluation criteria for us to be classified by DOE as a nationally recognized certification program.

We, therefore, believe that this petition is in order and that it can be processed without delay since it serves to reinforce the mutual recognition agreement between the Standards Council of Canada and the National Institute of Standards. Please let me know if you require any further information.

Thank you very much for your cooperation.

Daniel Barbini, P.Eng.,
Manager, Quality Assurance, CSA International.

Narrative Statements

Contents

Section 1. Scope and Application

Section 2. CSA International

—Letters of Patent

—Statement of Independence

—CSA By-Laws

—Annual Report

—Corporate Organization Chart

Section 3. Certification Division Quality Assurance Manual

—Manual

—Related Divisional Quality Documents

Section 4. CSA International's Motor Efficiency Verification Program

—Product Directory

Section 5. Examples of Other CSA International Accreditations

Section 1

Scope and Application

CSA International is seeking recognition to be classified as a nationally recognized certification program in the United States under EPCA with respect to verifying motor efficiencies when applying the following test procedure standards:

(a) Test Method B of ANSI/IEEE 112-1996, Test Procedure for Polyphase Induction Motors and Generators;

(b) Test Method 1 of CSA Standard C390-93, Energy Efficiency Test Methods for Three-Phase Induction Motors; and

(c) NEMA MG1-1993 (including revisions 1 to 4), Motors and Generators.

Facilities

CSA International Certification Facilities

CSA International has facilities in Canada and the United States and for your reference they are as follows:

Area | Address
Montreal | 865 Ellingham Street, Pointe-Claire, Quebec, H9R 5E8
Toronto | 178 Rexdale Blvd., Toronto, Ontario, M9W 1R3
Edmonton | 1707-94th Street, Edmonton, Alberta, T6N 1E6
Vancouver | 13799 Commerce Parkway, Richmond (Vancouver), BC, V6V 2N9
Cleveland | 8501 E. Pleasant Valley Rd., Cleveland, OH, 44131-5575
Irvine | 2805 Barranca Parkway, Irvine, CA, 92606-5114
Charlotte | 5970 Fairview Rd. #416, Charlotte, NC, 28210
Dallas | 208 Billings Street, Ste. 190, Arlington, Oaks Office Park, Arlington, TX, 76010
Nashville | 639 E. Main Street—B202, Hendersonville, TN, 37075
Pittsburgh | 5115 Yale Drive, Aliquippa, PA, 15001

Designated Testing Facility

As part of CSA International's motor energy efficiency verification program we are using our Toronto test facility and the Laboratoire des technologies électrochimiques et des électrotechnologies d'Hydro-Québec (LTEE) for such purposes as product qualification testing, re-testing, and challenge testing. The facilities of Toronto are used for testing the full range of motors up to 50 horsepower and the LTEE facilities are used for the remaining range of motors.

Summary of CSA International Section 1 Supporting Documentation

Section 1 of the CSA petition contained no supporting documents.

Section 2.—CSA International

Name and Address

CSA International, 178 Rexdale Blvd., Toronto, Ontario, Canada, M9W 1R3 (Headquarters)

Background

CSA International is an independent organization providing services in the fields of Standards Development and Conformity Assessment. The Standards Division of CSA International is responsible for the administration of the development of voluntary consensus standards, while the Certification Division and the Quality Management Institute provide conformity assessment programs including laboratory testing certification, inspection, and quality management services.

CSA International was formed in 1919 as the Canadian Engineering Standards Association (CESA), which was changed in 1944 to the name, Canadian Standards Association, and then renamed to CSA International in 1999.

Since our conception, CSA International has developed more than 1400 standards and codes—covering consumer and industrial products; and services in a wide range of product areas.

In 1940 we began to certify and test products. Today, we are an international organization with more than 8000 volunteer members from 20 countries representing consumers, regulators, manufacturers, and retailers. They are supported by a staff of approximately 1000 employees, with management staff located in the Far East and Europe.

More than 15,000 manufacturers worldwide use our certification and testing services, and our Mark appears on over one billion products a year. We process about 36,000 engineering projects annually, and our inspection staff make factory follow-up visits to some 50,000 factories in almost 60 countries.

Ownership

CSA international is an independent, not-for-profit organization governed by a Board of Directors selected by the membership. The Association has no affiliation with manufacturers or suppliers of the products submitted for certification.

Attachment 1 provides information regarding: (a) CSA's Letters of Patent; (b) Statement of Independence; and (c) By-Laws.

Board of Directors and Principal Officers

See CSA International's Annual Report for the individuals serving on our Board of Directors and Executive Management Team. See Attachment 2.

Major components of the Association are shown on the “Corporate Organization Chart.” See Attachment 3.

Summary of CSA International Section 2 Supporting Documentation

Section 2, Attachment 1, contains copies of: the Canadian Engineering Standards Association Charter, dated January 21, 1919; the Canadian Standards Association Supplementary Letters Patent, dated April 26, 1944; a sworn Statement of Independence, dated June 4, 1998; and the By-Laws to govern the organization and activities of the Canadian Standards Association, dated January 1992.

Section 2, Attachment 2, is a copy of the CSA International 1999 Annual Report.

Section 2, Attachment 3, is a copy of the CSA International senior management organization chart.

Section 3.—Certification Division Quality Assurance Manual

CSA International's Certification Division maintains the quality assurance system for the Association's worldwide operations. The objective of this system is to ensure (a) technical excellence; (b) consistency of interpretation, application of standards, programs and procedures; (c) integrity of our Mark; and (d) continuous improvement.

The Quality Assurance system for the Division is based on national and international accreditation requirements and specific contractual customer requirements. The accreditation requirements are found in the applicable editions of the following standards.

SCC/CAN-P3 Criteria and Procedure for Accreditation of Certification Organizations

SCC/CAN-P-4 General Requirements for the Accreditation of Calibration and Testing Laboratories

ISO/IEC Guide 25 General Requirements for the Competence of Calibration and Testing Laboratories

ANSI Z34.1 American National Standard for Certification—third party certification program

EN 45001 General Criteria for the Operation of Testing Laboratories

EN 45011 General Criteria for Certification Bodies Operating Product Certification

CSA International has implemented the requirements specified in ISO/IEC Guide 65, General requirements for bodies operating product certification systems. It is to be noted that the accreditation bodies, Standards Council of Canada and ANSI, are in the beginning stages of accrediting Certification Organizations to this standard. As a result, these accreditors will be auditing CSA International to these requirements during their regularly scheduled visits beginning in January 2000.

Divisional quality documents (DQDs) are operating procedures and guidelines used by staff in support of the quality assurance system. Examples of DQDs applicable to our energy efficiency verification program are located in Attachment 1.

Summary of CSA International Section 3 Supporting Documentation

Section 3 contains a copy of the CSA International “Certification Division Quality Assurance Manual,” DQD No. 050, July 6, 1998.

Section 3, Attachment 1, contains copies of the following CSA International “Certification and Testing Division, Divisional Quality Documents:” DQD No. 200, “Certification Program;” DQD No. 306, “Guidelines for Handling Complaints and Disputes;” DQD No. 306.1, “Customer Complaints;” DQD No. 318, “Guidelines for Handling Product Incidents Investigations;” DQD No. 320, “Factory Inspections;” DQD No. 326, “Handling of Nonconformances;” and DQD No. 327, “Corrective & Preventive Action.”

Section 4.—CSA International's Motor Efficiency Verification Program

Introduction

As Canada's premier Standards Development Organization, CSA International publishes consensus standards to improve products and enhance trade—all the time ensuring the needs of our various stakeholders are met. By establishing consensus among the different interest sectors using an open committee process, CSA International creates effective standards that are frequently referenced in government regulation.

CSA Standard C390-93, Energy Efficiency Test Methods for Three-Phase Induction Motors, is widely used in Canada as an integral part of Federal and Provincial Regulations. Electrical utility programs also make use of this standard to promote the use of higher levels of energy performance on a voluntary basis.

Our intimate knowledge of the standard coupled with CSA International's recognition as an accredited Certification Organization in Canada for motor efficiency and electrical safety supports the needs of manufacturers, consumers and regulators. We provide the necessary independent assurance that motors covered by government regulations meet and continue to comply with the established energy performance requirements.

Verification Program

The acceptance of motors under the CSA International verification service depends upon the satisfactory evaluation and testing to determine that the requirements of the applicable standard (e.g., CSA Standard C390-93) are met on a continuing basis. The following is a description of the major elements of our program used for qualifying manufacturers' motors or group of motors.

Application

The customer makes an application requesting verification for his motor and submits all required documentation such as a list of all motors being submitted by model designation, type, and applicable performance ratings. The application is given a specific file to track and record all activities to the project. A qualified person (e.g., professional engineer) is then assigned responsibility for handling the project.

Evaluation and Testing

CSA International with the manufacturer' assistance prepares a motor control list, identifying the critical features and the controls for these features for maintaining consistent performance with respect to energy efficiency. Representative motor samples are tested by an acceptable facility such as CSA International or LTEE to verify manufacturers rated efficiency values. Attachment 1 provides a description of the procedures used for the initial motor qualification testing and the follow-up retesting service to ensure continued compliance. A findings letter is then issued giving the results of our evaluation and actions needed, if applicable, to meet the standard. Modified samples may be required for further examination and testing.

Certification

After the resolution of all the action items, and all the conditions of the standard are met, the applicant is formally authorized to apply the CSA International Energy Efficiency Marking. A report is prepared describing the product and giving the related test results. A directory listing all products verified for energy efficiency is published and available to the general public. See Attachment 2.

Service Agreement

The applicant authorized to represent its motor as verified with our Energy Efficiency Marking must enter a signed agreement with CSA International. This agreement addresses the conditions for maintaining certification such as access to facilities and records, follow-up inspection, product re-testing and challenge testing. Manufacturers are also required to notify CSA International when changes are made to the motor which may affect their performance rating. These terms and conditions are designed to protect the integrity of our Marking.

Accompanying Services

After the motor has been initially evaluated and found to comply with the standard, our program includes additional services to ensure that motors bearing the CSA International verification marking continue to meet the applicable requirements. These services are:

(a) Follow-up inspections;

(b) Product re-testing; and

(c) Challenge testing.

Follow-up Inspections

Follow-up inspections are conducted at the point of manufacturing each year to ensure that

(a) our mark is only applied to motors that have been verified for energy efficiency;

(b) the manufacturers' product control measures are continuing to produce marked products that are in compliance with our report and the standard;

(c) samples required for re-testing are selected and sealed by CSA International staff during these visits.

Product Re-testing

Although a report is generated for motors detailing the critical construction features needed for maintaining consistent performance with respect to energy efficiency, our program is supplemented with unannounced motor re-testing to the specified requirement. This facilitates continued compliance with the standard and maintains the integrity of our mark.

Challenge Testing

Another service—challenge testing—is offered to any manufacturer or other party wishing to confirm the motor efficiency rating of a verified motor. This feature assists in ensuring the integrity of our verification program and can lead to the motor efficiency de-rating or a delisting of a series of motors represented by the sample motor.

Corrective Action

When a motor fails to comply with the standards, we take the following steps:

(a) remove the verification mark from the affected motor or motors;

(b) delist the motor(s);

(c) notify the applicable regulatory authorities and government departments of noncompliant motors (i.e., serial number, date code, or equivalent);

(d) re-test and verify the motor efficiency rating after the manufacturer modifies the product.

Sampling Process

The objective of our sampling process is to minimize manufacturers' tests, costs and time to market, while providing sufficient confidence that the series of motors verified meet the applicable energy efficiency standard. The added features of our program such as unannounced follow-up inspections, random motor re-testing, and challenge testing are critical components for demonstrating continued compliance to the standard. As a consequence of our CSA International's continual surveillance, the following sampling process guideline has emerged.

Samples Required for Motor Model Qualification Testing

Test 1 to 5 of each basic motor model type. The efficiency of the sample lot must equal or exceed the required nominal full load efficiency rating. The individual sample efficiencies must comply with the nominal efficiency tolerance required by the Standard. Manufacturers information indicating efficiency ratings must be in agreement with CSA International's records.

Selection of Basic Model Types To Represent A Series of Motors

A minimum of five (5) basic model types are required to be tested to verify the efficiency ratings of a series of motors. The basic model types are to be selected such that they represent the complete range of motors within the series. This may require that more than 5 basic model types are selected. High volume production motors are to be represented in the basic model types selected.

Samples Required for Scheduled Motor Retesting

A goal for verifying continued compliance with the standard is to re-test high volume motors at least once every 2 years. Other motors of different frame series are to be re-tested as needed to ensure continued compliance.

The initial sample lot shall consist of one motor. If the result equals or exceeds the minimum result from the qualification tests, then no further samples are required. If the result is less than the minimum result from the qualifying tests, then select motor samples per the qualifying test procedure.

Summary of CSA International Section 4 Supporting Documentation

Section 4, Attachment 1, contains a copy of an information letter to “All Manufacturers, Distributors and Importers of Three Phase Induction Motors Rated 1 hp to 200 hp,” which is entitled “CSA Energy Efficiency Verification Program for Three Phase Induction Motors Covered by CSA Standard CAN/CSA C390-M85,” and provides a table of applicable energy efficiency levels extracted from Table 3 of CSA Standard 390-M85, “Energy Efficiency Test Methods for Three-Phase Induction Motors.” On January 28, 2000, CSA International provided to the U.S. Department of Energy a copy of Table 2, “Minimum Nominal Efficiency (January 1996),” from CSA Standard C390-93, and made the assertion that its verification program tests to these requirements.

Also, Section 4, Attachment 1, contains a copy of a CSA International information bulletin addressed to “Manufacturers, Distributors and Importers of Electric Motors,” dated August 31, 1992, which is entitled “CSA Energy Efficiency Verification of Electric 3-Phase Induction Motors,” and provides a “Guide to the CSA Energy Efficiency Verification Service.”

Section 4, Attachment 2, is a copy of the CSA International Directory, “List of Products CSA Verified for Energy Efficiency 1999,” DIR 016-99.

Section 5.—Examples of Other CSA International Accreditations

The certification system and technical capabilities of the Association have enabled CSA International to be accredited nationally and internationally for a wide product spectrum such as electrical safety, energy efficiency, plumbing and gas. See Attachment 1 for examples of accreditations CSA International has received.

Summary of CSA International Section 5 Supporting Documentation

Section 5, Attachment 1, contains copies of the following documents CSA International has received in recognition of its certification system and technical capabilities:

1. Letter of inclusion in the register of Recognized Certification Bodies for Electrical Products (Safety) Regulation, from the Electrical & Mechanical Services Department, Hong Kong, December 27, 1997;

2. Certificate of Accreditation in recognition of being an Accredited Environmental Laboratory from the Canadian Association for Environmental Analytical Laboratories Inc. and the Standards Council of Canada, December 1, 1998;

3. Letter of listing as an administrator for the HUD Building Certification Program for plastic plumbing fixtures, from the U.S. Department of Housing and Urban Development, September 19, 1997;

4. Letter of listing as an approved testing laboratory from the International Association of Plumbing and Mechanical Officials, September 12, 1997;

5. Letter and certificates of accreditation for commercial products testing plumbing fixtures and fixture fittings from the National Voluntary Laboratory Accreditation Program, U.S. Department of Commerce, July 28, 1998;

6. Notice of final decision for recognition of the Canadian Standards Association as a Nationally Recognized Testing Laboratory from the Occupational Safety and Health Administration, U.S. Department of Labor, 61 FR 59110 (November 20, 1996);

7. Letter and certificates of approval as a testing laboratory for electrical and mechanical equipment (gas and plumbing) from the City of Los Angeles, California, December 31, 1996;

8. National Evaluation Service Committee Report of findings that the Canadian Standards Association complies with the requirements for a testing laboratory for HVAC and refrigeration equipment, plumbing fixtures and material, electrical products—including electric motors, natural gas-fired appliance, oil-fired appliances and precast/prestressed concrete products, from the National Evaluation Service, Inc., May 1, 1996;

9. Letter of recognition as an approved testing laboratory for gas, oil and electric appliances and accessories from the Department of Consumer & Industry Services, State of Michigan, March 19, 1998;

10. Letter of accreditation to label electrical and mechanical equipment from the North Carolina Building Code Council, Department of Insurance, State of North Carolina, September 19, 1997;

11. Certificate of Accreditation as a certification organization from the Standards Council of Canada, October 5, 1993; and

12. Letter of renewal of accreditation as an electrical testing laboratory from the Department of Labor and Industries, State of Washington, May 16, 1997.

[FR Doc. 00-8893 Filed 4-25-00; 8:45 am]

BILLING CODE 6450-01-P